OFFICE OF PERSONNEL MANAGEMENT

Submission for OMB Review; Request for Reinstatement of Revised Optional Forms: OPM Form OF 510, Applying for a Federal Job, and OPM Form OF 612, Optional Application for Federal Employment

AGENCY: Office of Personnel Management.

ACTION: Notice.

SUMMARY: In accordance with the Paperwork Reduction Act of 1995 (Public Law 104-13, May 22, 1995), this notice announces that the Office of Personnel Management (OPM) has submitted to the Office of Management and Budget a request for reinstatement of revised optional forms Applying for a Federal Job (OF 510) and Optional Application for Federal Employment (OF 612). The OF 510 is used to provide guidance to the general public on how to apply for Federal jobs. The form provides information on what necessary work, education, and other information applicants should provide in association with vacancy announcements and completing their application method of choice. The OF 612 is a data collection form used to collect applicant qualification information associated with vacancy announcements. The form provides necessary guidance to applicants so that they can be considered for employment when applying for Federal jobs.

A comment request for these optional forms was published in the Federal Register on October 8, 1999 [FR Doc. 99-26230]. During the initial 60-day comment request, OPM received and took action on the following comments: (1) Updated Privacy Act and Public Burden Statements have been incorporated in both optional forms; (2) an applicant e-mailed OPM identifying format errors on our downloadable OF 612, a Microsoft Word file, from OPM's USAJOBS web site [http://www.usajobs.opm.gov], which has since been corrected; and (3) one Federal agency e-mailed OPM clarifying whether it was OPM's intention to make the OF 612 mandatory and whether applicants can still use resumes for applying to Federal employment. OPM responded stating we have no intention of making the OF 612 mandatory and that application via a resume is still perfectly acceptable. The OF 612 will continue to be an “optional form.”

In addition, OPM has revised the OF 510 to include updated information and tips for applying for a Federal job, updated Privacy Act and Public Burden Statements, and re-designed the optional form for a new look and easier flow. The OF 612 has been revised to include updated Privacy Act and Public Burden Statements. Existing stock of both optional forms are still usable until current stock is depleted.

Upon clearance from the Office of Management and Budget, it is OPM's intention to make both optional forms available via OPM's web site and OPM's USAJOBS web site. Presently both existing versions of these optional forms are available on both sites. A transmittal memo from OPM will be sent to all Federal agency personnel directors via the Human Resources Management Council, announcing the approved forms and where/how to order new stock.

For copies of this proposal, contact Mary Beth Smith-Toomey on 202-606-8358 or e-mail at mbtoomey@opm.gov.

DATES: Comments on this proposal should be received on or before May 14, 2001.

ADDRESSES: Send or deliver comments to:

U.S. Office of Personnel Management, Employment Service, ATTN: Rob Timmins, 1900 E Street NW., Room 1425, Washington, DC 20415-9820

and

Office of Management & Budget, Office of Information & Regulatory Affairs, ATTN: Joseph Lackey, OPM Desk Officer, New Executive Office Building, NW., Room 10235, Washington, DC 20503

U.S. Office of Personnel Management.
Steven R. Cohen,
Acting Director.

[FR Doc. 01-9127 Filed 4-12-01; 8:45 am]

BILLING CODE 6325-38-P